UNITED STATES AGENCY FOR GLOBAL MEDIA

USAGM FY 2022 Service Contract Analysis & FY 2021 Service Contract Inventory

AGENCY: United States Agency for Global Media.

ACTION: Notice.

SUMMARY: The United States Agency for Global Media (USAGM) announces the members of its FY 2022 Service Contract Analysis and FY 2021 Service Contract Inventory.

ADDRESSES: USAGM Office of Contracts, 330 Independence Ave. SW, Washington, DC 20237.

FOR FURTHER INFORMATION CONTACT: Khilena Adhin, Acquisition Policy Branch Chief, at conpolicy@usagm.gov, 202-920-2302.

SUPPLEMENTARY INFORMATION: In accordance with Section 743 of Division C of the Consolidated Appropriations Act of 2010, the U.S. Agency for Global Media (USAGM) is publishing this notice to advise the public of the availability of its FY 2022 Service Contract Analysis and FY 2021 Service Contract Inventory. They are available on the USAGM website, through the following link: https://www.usagm.gov/ourwork/strategy-and-results/strategic-priorities/research-reports/service-contract-inventory/.

The service contract inventory provides information on service contract actions over $25,000 made in FY 2021. The information is organized by function to show how contracted resources are distributed throughout the Agency. The inventory has been developed in accordance with guidance on service contract inventories issued on November 5, 2010 and on December 19, 2011 by the Office of Management and Budget, Office of Federal Procurement Policy (OFPP).

Dated: January 18, 2023.
Armanda Matthews,
Program Support Specialist. U.S. Agency for Global Media.

[FR Doc. 2023-01322 Filed 1-23-23; 8:45 am]

BILLING CODE 8610-01-P